DEPARTMENT OF ENERGY

Federal Energy Regulatory Commission

[Docket No. ER02-2330-025, et al.]

ISO New England Inc., et al.; Electric Rate And Corporate Filings

March 18, 2004.

The following filings have been made with the Commission. The filings are listed in ascending order within each docket classification.

1. ISO New England Inc.

[Docket No. ER02-2330-025]

Take notice that on March 15, 2004, ISO New England Inc. submitted a compliance filing providing a status report on the implementation of Standard Market Design in New England.

Comment Date: April 5, 2004.

2. Duke Energy South Bay, Inc.

[Docket No. ER03-117-004]

Take notice that on March 15, 2004, Duke Energy South Bay, LLC (Duke South Bay) submitted for filing an errata to the refund report filed on March 12, 2004, in Docket No. ER03-117-003.

Comment Date: April 5, 2004.

3. Southern California Edison Company

[Docket No. ER03-142-005]

Take notice that on March 15, 2004, Southern California Edison Company (SCE) tendered for filing a refund report in compliance with the Order Approving Uncontested Settlement issued by the Commission on February 12, 2004, in Docket No. ER03-142-000 106 FERC ¶ 61,118.

SCE states that copies of this filing were served upon the Public Utilities Commission of the State of California and the California Department of Water Resources.

Comment Date: April 5, 2004.

4. Midwest Independent Transmission System Operator, Inc.

[Docket No. ER03-1312-004]

Take notice that on March 15, 2004, the Midwest Independent Transmission System Operator, Inc. (Midwest ISO) supplemented its March 1, 2004, filing concerning Schedule 20 (Treatment of Station Power) of its Open Access Transmission Tariff, FERC Electric Tariff, Second Revised Volume No. 1.

The Midwest ISO has requested waiver of the service requirements set forth in 18 CFR 385.2010. Midwest ISO states that it has electronically served a copy of this filing, with attachments, upon all Midwest ISO Members, Member representatives of Transmission Owners and Non-Transmission Owners, the Midwest ISO Advisory Committee participants, as well as all State commissions within the region. In addition, the filing has been electronically posted on the Midwest ISO's Web site at www.midwestiso.org under the heading “Filings to FERC” for other interested parties in this matter. The Midwest ISO will provide hard copies to any interested parties upon request.

Comment Date: April 5, 2004.

5. Williams Power Company, Inc., Williams Generation Company—Hazelton, Williams Flexible Generation, LLC

[Docket Nos. ER03-1331-003, ER97-4587-004, and ER00-2469-001]

Take notice that on March 12, 2004, Williams Power Company, Inc., (WPC) Williams Generation Company—Hazelton and Williams Flexible Generation, LLC tendered for filing a joint triennial market power update in compliance with the Commission's orders authorizing them to engage in wholesale sales of electric power at market-based rates.

Comment Date: April 2, 2004.

6. American Electric Power Service Corporation

[Docket No. ER04-645-000]

Take notice that on March 12, 2004, the American Electric Power Service Corporation (AEP), as agent for Appalachian Power Company (APCo) tendered for filing as an Initial Rate Schedule, an executed Letter Agreement between APCo Bristol Virginia Utilities. AEP requests an effective date of February 9, 2004.

AEP states that a copy of the filing was served upon Bristol Virginia Utilities and the Virginia State Corporation Commission.

Comment Date: April 5, 2004.

7. Core Equities, Inc.

[Docket No. ER04-646-000]

Take notice that on March 15, 2004, Core Equities, Inc. (Core) petitioned the Commission for acceptance of Core Rate Schedule FERC No. 1; the granting of certain blanket approvals, including the authority to sell electricity at market-based rates; and the waiver of certain Commission regulations.

Core states that it intends to engage in wholesale electric power and energy purchases and sales as a marketer. Core also states that it is not in the business of generating or transmitting electric power and that it is a privately held corporation with no affiliates or subsidiaries.

Comment Date: April 5, 2004.

8. PacifiCorp

[Docket No. ER04-647-000]

Take notice that on March 15, 2004, PacifiCorp tendered for filing in accordance with 18 CFR 35 of the Commission's Rules and Regulations, First Revised Sheet Nos. 45 through 47 (Appendix A) to PacifiCorp's First Revised FERC Rate Schedule No. 297 (Transmission Service and Operating Agreement) with Utah Associated Municipal Power Systems (UAMPS).

PacifiCorp states that copies of this filing were supplied to the Public Utility Commission of Oregon, the Washington Utilities and Transportation Commission, and UAMPS.

Comment Date: April 5, 2004.

9. Public Service Company of New Mexico

[Docket No. ER04-648-000]

Take notice that on March 15, 2004, Public Service Company of New Mexico (PNM) submitted for filing an Interim Invoicing Agreement with respect to invoicing for coal deliveries from San Juan Coal Company among PNM, Tucson Electric Power Company (TEP), and the other owners of interests in the San Juan Generating Station covering the period from January 1, 2004, through December 31, 2004. PNM states that Interim Invoicing Agreement is an appendix to the San Juan Project Participation Agreement (PPA), and effectively modifies the PPA for that same period. PNM request an effective date of January 1, 2004.

PNM states that copies of the filing have been sent to the New Mexico Public Regulation Commission, the New Mexico Attorney General, TEP, and each of the owners of an interest in the San Juan Generating Station.

Comment Date: April 5, 2004.

10. Minnesota Power, Superior Water, Light & Power Company, Rainy River Energy Corporation

[Docket No. ER04-649-000]

Take notice that on March 15, 2004, Minnesota Power and its affiliates, Superior Water, Light & Power Company and Rainy River Energy Corporation (Applicants), filed revised market based rate tariffs to reflect the fact that the Applicants are no longer affiliated with Split Rock Energy LLC.

Comment Date: April 5, 2004.

11. Mirant Kendall, L.L.C.

[Docket No. ER04-650-000]

Take notice that on March 15, 2004, Mirant Kendall, L.L.C. (Mirant Kendall) tendered for filing pursuant to section 205 of the Federal Power Act and part 35 of the Commission's regulations an amended and restated tie agreement (the Tie Agreement) and a substation agreement (the Substation Agreement) by and between Mirant Kendall and Cambridge Electric Light Company (Cambridge Electric). Mirant Kendall states that the proposed Agreements would provide for the construction and operation of a generator tie line within Mirant Kendall's generating station in Cambridge, Massachusetts and the conveyance of certain property rights for the construction and operation of a substation in Cambridge, Massachusetts. Mirant Kendall has requested an effective date for the Tie Agreement of March 16, 2004. Mirant Kendall has requested an effective date for the Substation Agreement coincident with the later of (a) approval of the United States Bankruptcy Court of the Northern District of Texas, Fort Worth Division and (b) approval in writing by Mirant Kendall's debtor-in-possession lender of Mirant Kendall's entry into such Substation Agreement.

Mirant Kendall states that a copy of this filing has been sent to Cambridge Electric.

Comment Date: April 5, 2004.

12. San Manuel Power Co. LLC

[Docket No. ER04-651-000]

Take notice that on March 15, 2004, San Manuel Power Co. LLC (San Manuel) filed a Notice of Cancellation of its Electric Tariff, Original Volume No. 1, effective March 31, 2004.

Comment Date: April 5, 2004.

13. FirstEnergy Solutions Corp.

[Docket No. ER04-652-000]

Take notice that on March 15, 2004, FirstEnergy Solutions Corp. (Solutions) tendered for filing a revised Service Schedule A—Reactive Supply and Voltage Control from Generation Sources Service (Reactive Supply Service) under its Tariff for Sales of Ancillary Services and Interconnected Operations Services. Solutions states that revisions are being made to establish or update charges for Reactive Supply Service that it provides to transmission systems controlled by the Midwest Independent Transmission System Operator, Inc. and PJM Interconnection, LLC. Solutions has proposed to make the revised Service Schedule A effective on May 1, 2004.

Comment Date: April 5, 2004.

14. PJM Interconnection, L.L.C.

[Docket No. ER04-653-000]

Take notice that on March 15, 2004, PJM Interconnection, L.L.C. (PJM) submitted the initial allocation of financial transmission rights (FTRs) for the zone of Commonwealth Edison Company (ComEd), which will come under the PJM tariff and market rules on May 1, 2004. PJM proposes an effective date of May 1, 2004, for the initial FTR allocation in the ComEd zone.

PJM states that copies of the filing were served on all PJM members and the utility regulatory commissions in the PJM region.

Comment Date: April 5, 2004.

15. Midwest Independent Transmission System Operator, Inc.

[Docket No. ER04-655-000]

Take notice that on March 15, 2004, Midwest Independent Transmission (Midwest ISO) and the Midwest ISO Transmission Owners and Coordinating Owner submitted for filing proposed revisions to the Agreement of Transmission Facilities Owners to Organize the Midwest Independent Transmission System Operator, Inc., a Delaware Non-Stock Corporation (Midwest ISO Agreement), Midwest ISO FERC Electric Tariff, First Revised Rate Schedule No. 1, in order to revise the distribution of revenues collected under Schedule 18 of the Midwest ISO Open Access Transmission Tariff consistent with the Settlement approved in Docket No. ER03-580-000, et al.

The Midwest ISO and the Midwest ISO Transmission Owners and Coordinating Owner requested waiver of the notice provisions of section 205 of the Federal Power Act in order to accommodate an effective date of October 1, 2003, the effective date of Schedule 18.

The Midwest ISO and the Midwest ISO Transmission Owners and Coordinating Owner requested waiver of the service requirements set forth in 18 CFR 385.2010. Midwest ISO states that it has electronically served a copy of this filing, with attachments, upon all Midwest ISO Members, Member representatives of Transmission Owners and Non-Transmission Owners, as well as all State commissions within the region. In addition, the filing has been electronically posted on the Midwest ISO's Web site at www.midwestiso.org under the heading Filings to FERC for other interested parties in this matter. The Midwest ISO will provide hard copies to any interested parties upon request.

Comment Date: April 5, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-664 Filed 3-24-04; 8:45 am]

BILLING CODE 6717-01-P